INTERNATIONAL TRADE COMMISSION

[Investigation Nos. 701-TA-503-504 (Final)]

Monosodium Glutamate From China and Indonesia; Termination of Investigations

AGENCY: United States International Trade Commission.

ACTION: Notice.

SUMMARY: On April 7, 2014, the Department of Commerce published notice in the Federal Register of termination of the countervailing duty investigations in connection with monosodium glutamate from China and Indonesia (79 FR 19056). Accordingly, pursuant to section 207.40(a) of the Commission's Rules of Practice and Procedure (19 CFR 207.40(a)), the countervailing duty investigations concerning monosodium glutamate from China and Indonesia (Inv. Nos. 701-TA-503-504 (Final)) are terminated.

DATES: Effective Date: April 7, 2014.

FOR FURTHER INFORMATION CONTACT: Amy Sherman (202-205-3289), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: These investigations are being terminated under authority of title VII of the Tariff Act of 1930; this notice is published pursuant to section 201.10 of the Commission's rules (19 CFR 201.10).

By order of the Commission.
Issued: September 15, 2014.
Jennifer D. Rohrbach,
Supervisory Attorney.

[FR Doc. 2014-22318 Filed 9-18-14; 8:45 am]

BILLING CODE 7020-02-P